SECURITIES AND EXCHANGE COMMISSION

[Release No. 34-67233; File No. SR-NYSEArca-2012-26]

Self-Regulatory Organizations; NYSE Arca, Inc.; Notice of Withdrawal of Proposed Rule Change To List and Trade Option Contracts Overlying 10 Shares of a Security (“Mini-Options Contracts”) and Implement Rule Text Necessary To Distinguish Mini-Options Contracts From Option Contracts Overlying 100 Shares of a Security (“Standard Contracts”)

June 21, 2012.

On March 23, 2012, NYSE Arca, Inc. (“NYSE Arca”) filed with the Securities and Exchange Commission (“Commission”), pursuant to Section 19(b)(1) of the Securities Exchange Act of 1934 ¹ and Rule 19b-4 thereunder,² a proposed rule change to list and trade Mini-Options Contracts and implement rule text necessary to distinguish Mini-Options Contracts from Standard Contracts. Notice of the proposed rule change was published in the Federal Register on April 9, 2012.³ The Commission received six comment letters on the proposed rule change.⁴ On May 21, 2012, the Commission extended the time period for Commission action to July 8, 2012.⁵ On June 11, 2012, NYSE Arca withdrew the proposed rule change (SR-NYSEArca-2012-26).

¹ 15 U.S.C. 78s(b)(1).

² 17 CFR 240.19b-4.

³ See Securities Exchange Act Release No. 66725 (April 3, 2012), 77 FR 21120.

⁴ See email from Danon Robinson, Toro Trading, LLC, dated April 5, 2012; letters to Elizabeth M. Murphy, Secretary, Commission, from Christopher Nagy, Managing Director Order Routing & Market Data Strategy, TD Ameritrade, dated April 30, 2012; Manisha Kimmel, Executive Director, Financial Information Forum, dated April 30, 2012; Edward T. Tilly, President and Chief Operating Officer, Chicago Board Options Exchange, Incorporated, dated April 30, 2012; Joan C. Conley, Senior Vice President & Corporate Secretary, The NASDAQ OMX Group, Inc., dated April 30, 2012; and Jennifer Green Setzenfand, Chairman of the Board and James Toes, President and CEO, Security Traders Association, dated June 8, 2012.

⁵ See Securities Exchange Act Release No. 67034 (May 21, 2012), 77 FR 31418 (May 25, 2012).

For the Commission, by the Division of Trading and Markets, pursuant to delegated authority.⁶
⁶ 17 CFR 200.30-3(a)(12).
Kevin M. O'Neill,
Deputy Secretary.

[FR Doc. 2012-15636 Filed 6-26-12; 8:45 am]

BILLING CODE 8011-01-P